DEPARTMENT OF THE INTERIOR

National Park Service

[NPS-PWR-TUSK-18335: PX.XLKTUSK15.00.1]

Tule Springs Fossil Beds National Monument Advisory Council

AGENCY: National Park Service, Interior.

ACTION: Establishment.

SUMMARY: The National Park Service, U.S. Department of the Interior, is establishing the Tule Springs Fossil Beds National Monument Advisory Council (Council). The purpose of the Council is to provide the Secretary of the Interior (Secretary) and National Park Service (NPS) guidance for the management of the Monument.

FOR FURTHER INFORMATION CONTACT: Christie Vanover, Public Affairs Officer, Tule Springs Fossil Beds National Monument, 601 Nevada Way, Boulder City, Nevada 89005, telephone (702) 293-8691, or email tusk_information@nps.gov.

SUPPLEMENTARY INFORMATION: The NPS is establishing the Tule Springs Fossil Beds National Monument Advisory Council in accordance with Section 3092 (a)(6) of Public Law 113-291, and in accordance with the provisions of the Federal Advisory Committee Act, 5 U.S.C. Appendix 2.

The Council provides the Secretary and the NPS with guidance for the management of the Monument, including advice on the preparation and implementation of the management plan.

The Council is composed of 10 members appointed by the Secretary, as follows: (a) One member appointed among individuals recommended by the County Commission; (b) one member appointed among individuals recommended by the city council of Las Vegas, Nevada; (c) one member appointed among individuals recommended by the city council of North Las Vegas, Nevada; (d) one member appointed among individuals recommended by the tribal council of the Las Vegas Paiute Tribe; (e) one member of the conservation community in southern Nevada; (f) one member appointed among individuals recommended by Nellis Air Force Base; (g) one member appointed among individuals recommended by the State of Nevada; (h) one member who resides in Clark County and has a background that reflects the purposes for which the Monument was established; and (i) two members who reside in Clark County or adjacent counties, both of whom shall have experience in the field of paleontology, obtained through higher education, experience, or both. Members will be appointed by the Secretary for a term of three years.

Certification Statement: I hereby certify that the establishment of the Tule Springs Fossil Beds National Monument Advisory Council is necessary and in the public interest in connection with the performance of duties imposed on the Department of the Interior under Public Law 113-291, The Carl Levin and Howard “Buck” McKeon National Defense Authorization Act for Fiscal Year 2015.

Dated: June 16, 2015.
Sally Jewell,
Secretary of the Interior.

[FR Doc. 2015-16109 Filed 6-30-15; 8:45 am]

BILLING CODE 4310-EE-P